DEPARTMENT OF HEALTH AND HUMAN SERVICES

National Institutes of Health

National Institute of Child Health and Human Development Proposed Collection; Comment Request; NEXT Generation Health Study

SUMMARY: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval.

Proposed Collection:

Title: NEXT Generation Health Study.

Type of Information Collection Request: Reinstatement.

Need and Use of Information Collection:

The goal of this research is to continue to obtain data on adolescent health and health behaviors annually for seven years beginning in the 2009-2010 school year from a national probability sample of adolescents. The transition from high school to post high school years is a critical period for changes in adolescent health risk behaviors. This information will enable the improvement of health services and programs for youth. The study will provide needed information about the health of U.S. adolescents and influences on their health.

The study has collected information on adolescent health behaviors and social and environmental contexts for these behaviors annually for three years beginning in the 2009-2010 school year. This study will continue to collect this information for an additional four years beginning in 2013. Self-report of health status, health behaviors, and health attitudes will be collected by online surveys.

Table 1—Annual Burden for Affected Public: School-Age Children, Parents and School Administrators
Type of respondents | Estimated number of respondents | Estimated number of responses per respondent | Average burden hours per response | Estimated total annual burden hours requested
Adolescents | 2,600 | 1 | 1.0 | 2,600

The estimated annualized cost to respondents is $22,807 (Table 2). These costs were estimated for the 2013 survey year only, not the entire duration of the project. These estimates were calculated using 2008 Department of Labor figures for wages of average wage and salaried employees and assuming an annual increase of 1.25%, 50-week contract, and 40-hour week and that 60% of the cohort will be attending school or unemployed during the first year after high school, thereby reducing the average hourly earnings from $21.93 to $8.77.

Table 2—Annual Cost to Respondents—2013 Survey Year Only
Type of respondents | Estimated total annual burden hours requested | Estimated annual earnings during survey | Average hourly earnings (with rounding) | Estimated cost during survey year
Adolescents | 2,600 | $16,908 | $8.77 | $22,807

There are no Capital Costs to report. There are no Operating or Maintenance Costs to report.

No direct costs to the respondents themselves or to participating schools are anticipated.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Ronald Iannotti, Prevention Research Branch, Division of Epidemiology, Statistics, and Prevention Research, Eunice Kennedy Shriver National Institute of Child Health and Human Development, Building 6100, 7B05, 9000 Rockville Pike, Bethesda, Maryland, 20892-7510, or call non-toll free number (301) 435-6951 or Email your request, including your address to <ri25j@nih.gov>.

Comments Due Date: Comments regarding this information collection are best assured of having their full effect if received within 60 days of the date of this publication.

Dated: February 15, 2012.
Sarah Glavin,
Deputy Director, Office of Science Policy, Analysis and Communications, National Institute of Child Health and Human Development.

[FR Doc. 2012-4222 Filed 2-22-12; 8:45 am]

BILLING CODE 4140-01-P